DEPARTMENT OF HEALTH AND HUMAN SERVICES

Health Resources and Services Administration

National Advisory Council on Nurse Education and Practice; Notice of Meeting

In accordance with section 10(a)(2) of the Federal Advisory Committee Act (Pub. L. 92-463), notice is hereby given of the following meetings:

Name: National Advisory Council on Nurse Education and Practice (NACNEP).

Dates and Times: November 7, 2011, 8:30 a.m.-4 p.m.; November 8, 2011, 8:30 a.m.-4 p.m.

Place: Georgetown University Hotel & Conference Center, 3800 Reservoir Road, NW., Washington, DC 20057.

Status: The meeting will be open to the public.

Purpose: The purpose of this meeting is to delineate the contribution of nursing workforce development to meeting the health and health care challenges facing the nation, and to articulate a strategic vision and agenda for NACNEP in meeting those challenges. The objectives of the meeting are: (1) To identify the key issues challenging nursing workforce development in meeting the health care needs of the nation; (2) to develop goals and a blueprint for Council action to address these challenges; and (3) to articulate the activities, initiatives, and stakeholder partnerships that are critical to advancing 21st century interprofessional education and practice models needed to promote the health of the public. This meeting will form the basis for NACNEP's mandated Twelfth Annual Report to the Secretary of Health and Human Services and the Congress.

Agenda: The meeting will include a panel presentation and discussion focused around the purpose and objectives of this meeting. The agenda will be available on the NACNEP website http://www.hrsa.gov/advisorycommittees/bhpradvisory/nacnep/index.html one day prior to the meeting. Agenda items are subject to change as priorities dictate. Those requesting to participate in the meeting can do so by contacting the Designated Federal Officer by email. Interested parties will participate by invitation.

For Further Information Contact: For further information regarding NACNEP, to obtain a roster of members, minutes of the meeting, or other relevant information, contact Commander Serina Hunter-Thomas, Designated Federal Officer, National Advisory Council on Nurse Education and Practice, Parklawn Building, Room 9-61, 5600 Fishers Lane, Rockville, Maryland 20857; e-mail SHunter-Thomas@Hrsa.gov; telephone (301) 443-5688.

The Council will join the three other advisory committees in the Bureau of Health Professions (BHPr) for the fourth BHPr All-Advisory Committee Meeting on Wednesday, November 9, 2011. Please refer to the Federal Register notice for the BHPr All-Advisory Committee Meeting for additional details.

Dated: October 12, 2011.
Reva Harris,
Acting Director, Division of Policy and Information Coordination.

[FR Doc. 2011-27025 Filed 10-18-11; 8:45 am]

BILLING CODE 4165-15-P